FEDERAL COMMUNICATIONS COMMISSION

[DA 20-308]

Consumer Advisory Committee

AGENCY: Federal Communications Commission.

ACTION: Notice.

SUMMARY: In accordance with the Federal Advisory Committee Act, this notice announces the next meeting date, time, and agenda of the Federal Communications Commission's (FCC or Commission) Consumer Advisory Committee (hereinafter the “Committee”). The Committee will hold this upcoming meeting remotely via live internet link on the Commission's website.

DATES: April 27, 2020, 10:30 a.m. to 12:30 p.m.

ADDRESSES: The Meeting will be held via conference call and available to the public at http://www.fcc.gov/live.

FOR FURTHER INFORMATION CONTACT: Scott Marshall, Designated Federal Officer of the Committee, (202) 418-2809 (voice or Relay), email: scott.marshall@fcc.gov; or Gregory V. Haledjian, Deputy Designated Federal Officer of the Committee, (202) 418-7440 (voice or Relay) email: gregory.haledjian@fcc.gov. U.S. Postal Service Mailing address: Federal Communications Commission, 445 12th Street SW, Washington, DC 20554.

SUPPLEMENTARY INFORMATION: This is a summary of the Commission's Public Notice

DA 20-308, released April 7, 2020, announcing the Agenda, Date, and Time of the Committee's next meeting.

Proposed Agenda: At its April 27, 2020 meeting, the Committee will consider a recommendation from its Truth-in-Billing Working Group.

This meeting is open to members of the general public and has been moved to a wholly electronic format due to the COVID-19 pandemic. The meeting can be viewed live, by the public, at http://www.fcc.gov/live. The public may also follow the meeting on Twitter @fcc or via the Commission's Facebook page at www.facebook.com/fcc. Members of the public may submit any questions that arise during the meeting to livequestions@fcc.gov.

Open captioning will be provided for the live stream. Other reasonable accommodations for people with disabilities are available upon request. To request an accommodation, send an email to fcc504@fcc.gov or call the Consumer and Governmental Affairs Bureau at (202) 418-0530 (voice), (202) 418-0432 (TTY). Such requests should include a detailed description of the accommodation needed. In addition, please include a way for the Commission to contact the requester if more information is needed to fulfill the request. Please allow at least five days' advance notice; last-minute requests will be accepted but may not be possible to accommodate.

To obtain further information about the Committee, consult the Committee's web page at: www.fcc.gov/consumer-advisory-committee, or contact: Scott Marshall, Designated Federal Officer, Consumer and Governmental Affairs Bureau, Federal Communications Commission, Room 3-A633, 445 12th Street SW, Washington, DC 20554; phone: 202-418-2809 (voice or Relay); email: scott.marshall@fcc.gov; or Gregory V. Haledjian, Deputy Designated Federal Officer, Consumer and Governmental Affairs Bureau, Federal Communications Commission, Room 5-C736, 445 12th Street SW, Washington, DC 20554; phone: 202-418-7440; email: gregory.haledjian@fcc.gov. Comments may also be submitted to the Designated Federal Officer or the Deputy or through the Commission's Electronic Comment Filing System, ECFS, at: www.fcc.gov/ecfs/.

Federal Communications Commission.
Gregory Haledjian,
Legal Advisor, Consumer and Governmental Affairs Bureau.

[FR Doc. 2020-08037 Filed 4-15-20; 8:45 am]

BILLING CODE 6712-01-P